DEPARTMENT OF LABOR

Office of the Secretary

Submission for OMB Review; Comment Request

May 6, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to Office of Information and Regulatory Affairs, Attn: OMB Desk Officer for BLS, Office of Management and Budget, Room 10235, Washington, DC 20503 (202) 395-7316, within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Revision of a currently approved collection

Agency: Bureau of Labor Statistics (BLS)

Title: Consumer Price Index Commodities and Services Survey

OMB Number: 1220-0039

Affected Public: Business or other for-profit, Not-for-profit institutions, State, Local or Tribal Government

Estimated Time Per Response and Total Burden Hours:

Form | Total respondents | Frequency | Total annual responses | Minutes per response (average) | Estiamted total burden (hours)
BLS 3400 | 14,178 | Annual | 14,178 | 4 | 993
BLS 3400A.2 | 19,105 | Annual | 19,105 | 29.76 | 9,486
BLS 3400B | 19,105 | Annual | 19,105 | 25.50 | 8,124
BLS 3400C | 1,375 | Annual | 1,375 | 6 | 138
BLS 3401 | 39,415 | Monthly/Bimonthly | 343,699 | 13.8 | 79,051
Totals | ¹ 58,520 |  | ²362,804 | ³15 | 97,792
¹ The total number of respondents, 58,520, does not reflect the sum of the number of respondents for the five listed forms because the first form only applies to all of our activities that involve initiation, while the second and third forms involves all initiations plus item rotation. The fourth form is only used in a subset of outlets being initiated. The fifth form is used only for the regular pricing of sampled outlets. Thus the total individual respondents impacted by the five forms are 30,415 plus 19,105 = 58,520 respondents.
² The annual responses does not reflect the sum of all of the listed responses because, as noted in footnote 1, some forms are used at the same respondent when they are initiated or are part of item rotation. Thus the total annual responses associated with the five forms are 343,699 + 19,105 = 362,804.
³ The sum of minutes represents a weighted average of the minutes per respondent, using annual responses as a weight.

Total Annualized Capital/Startup Costs: $0

Total Annual Costs (operating/maintaining systems or purchasing services): $0

Description: Section 2 of Title 29, Chapter 1, Subchapter 1, United States Code Annotated directs the Bureau of Labor Statistics (BLS), under the direction of the Secretary of Labor, to collect, collate, and report full and complete statistics of the conditions of labor and the products and distribution of the products of the same. The Consumer Price Index (CPI) is the only index compiled by the U.S. Government that is designed to measure changes in the purchasing power of the urban consumer's dollar. The collection of prices directly from retail establishments is essential for the timely and accurate calculation of the commodities and services component of the CPI. Respondents include retail establishments throughout the country. If the information were not collected, the consequences to both the Federal and private sectors would be far-reaching and would have serious repercussions on Federal government policy and institutions.

Ira L. Mills,
DOL Clearance Officer.

[FR Doc. 02-11983 Filed 5-13-02; 8:45 am]

BILLING CODE 4510-24-M